DEPARTMENT OF COMMERCE

National Oceanic and Atmospheric Administration

[RTID 0648-XC436]

South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Habitat Protection and Ecosystem-Based Management Advisory Panel (Habitat AP).

DATES: The Habitat AP will meet on Tuesday, November 1, 2022, from 1 p.m. until 4 p.m., Wednesday, November 2, 2022, from 9 a.m. to 4 p.m., and Thursday, November 3, 2022, from 9 a.m. to 12 p.m. The meetings will be held in Charleston, SC.

ADDRESSES:

Meeting address: The meeting will be held at the Town and Country Inn, 2008 Savannah Highway, Charleston, SC 29407; phone: (843) 571-1000.

The meeting is open to the public and will also be available via webinar. Registration is required. Webinar registration, an online public comment form, and briefing book materials will be available two weeks prior to the meeting at: https://safmc.net/advisory-council-meetings/.

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The Habitat AP meeting agenda includes the following: NOAA overview of Deep Water Coral Mapping and Characterization in the South Atlantic Region; review and input on revisions to the Council's Beach Dredge and Fill and Large-Scale Coastal Engineering Policy Statement; initial discussion and guidance on updating the Council's energy policy; and an overview of the East Coast Climate Change Scenario Planning initiative.

The AP will also receive updates on Renewable Energy (Offshore Wind) Development in the South Atlantic; NOAA Fisheries Habitat Conservation Division's Essential Fish Habitat (EFH) 5-year review and EFH consultations over the past year; and other items.

The AP will develop recommendations for consideration by the Council's Habitat Protection and Ecosystem-Based Management Committee.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: October 11, 2022.
Rey Israel Marquez,
Acting Deputy Director, Office of Sustainable Fisheries, National Marine Fisheries Service.

[FR Doc. 2022-22388 Filed 10-13-22; 8:45 am]

BILLING CODE 3510-22-P